DEPARTMENT OF AGRICULTURE

Cooperative State Research, Education, and Extension Service

Notice of Funding Availability for the Beginning Farmer and Rancher Development Program for Fiscal Year (FY) 2009

AGENCY: Cooperative State Research, Education, and Extension Service, USDA.

ACTION: Notice of funding availability.

SUMMARY: The Cooperative State Research, Education, and Extension Service (CSREES) is announcing the release of the FY 2009 Beginning Farmer and Rancher Development Program (BFRDP) Request for Applications (RFA) via Grants.gov.

DATES: The FY 2009 Beginning Farmer and Rancher Development Program RFA (BFRDP) was posted to Grants.gov on Friday, March 13, 2009, and applications are due via Grants.gov by Monday, May 13, 2009.

FOR FURTHER INFORMATION CONTACT: Siva Sureshwaran, 202-720-7536 (phone), 202-401-6070 (fax), or ssureshwaran@csrees.usda.gov. Janie Simms Hipp, 202-720-3605 (phone), 202-690-3162 (fax), or jhipp@csrees.usda.gov.

SUPPLEMENTARY INFORMATION:

Background and Purpose

Section 7405 of the Farm Security and Rural Investment Act of 2002 (Pub. L. 107-171) (7 U.S.C. 3319f) as amended by the Food, Conservation, and Energy Act of 2008 (Pub. L. 110-246), directs the Secretary of Agriculture (Secretary) to establish a Beginning Farmer and Rancher Development Program (BFRDP). The authority to carry out the BFRDP has been delegated to CSREES through the Under Secretary for Research, Education, and Economics. The Secretary is authorized to make competitive grants to support new and established local and regional training, education, outreach, and technical assistance initiatives that address the needs of beginning farmers and ranchers (Standard BFRDP Projects). Grants for Standard BFRDP Projects will be awarded to address needs of beginning farmers and ranchers in the following priority areas: Mentoring, apprenticeships, and internship activities; resources and referral; assisting beginning farmers or ranchers in understanding how to acquire land from retiring farmers and ranchers; innovative farm and ranch transfer strategies; entrepreneurship and business training; model land leasing contracts; financial management training; whole farm planning; conservation assistance; risk management education; diversification and marketing strategies; curriculum development; understanding the impact of concentration and globalization; basic livestock and crop farming practices, forestry and range management; acquisition and management of agricultural credit; environmental compliance; information processing; and other similar subject areas of use to beginning farmers and ranchers. The Secretary is also directed to establish beginning farmer and rancher education teams to develop curricula and conduct educational programs and workshops for beginning farmers and ranchers in diverse geographical areas in the United States (Educational Enhancement Projects).

The FY 2009 BFRDP RFA is soliciting grant applications for Standard BFRDP Projects and Educational Enhancement Projects discussed above. In addition, the RFA is soliciting a project application to establish an Online clearinghouse that makes available to beginning farmers or ranchers education curricula and training materials and programs, which may include Online courses for direct use by beginning farmers or ranchers. This award will be made as a cooperative agreement.

The Secretary may make awards to a collaborative State, tribal, local or regionally-based network or partnership of public or private entities, which may include: A State cooperative extension service; a Federal, State, or tribal agency; a community-based and nongovernmental organization; a college or university (including a junior college awarding an associate's degree) or foundation maintained by a college or university; private for-profit organizations; or any other appropriate partner, as determined by the Secretary.

All applicants are required to provide funds or in-kind support from non-Federal sources in an amount that is at least equal to 25 percent of the Federal funds requested.

In making BFRDP awards, priority will be given to partnerships and collaborations that are led by or include nongovernmental and community-based organizations with expertise in new agricultural producer training and outreach.

The estimated amount available for support of this program in FY 2009 is $17,280,000. The eligibility criteria for projects and applicants, and the application forms and associated instructions needed to apply for a BFRDP award, can be accessed through the Grants.gov Web site and http://www.grants.gov.

Done at Washington, DC, this 9th day of April 2009.
Colien Hefferan,
Administrator, Cooperative State Research, Education, and Extension Service.

[FR Doc. E9-8543 Filed 4-13-09; 8:45 am]

BILLING CODE